DEPARTMENT OF HOMELAND SECURITY

U.S. Customs and Border Protection

Notice of Cancellation of Customs Broker Licenses

AGENCY: U.S. Customs and Border Protection, U.S. Department of Homeland Security

ACTION: General notice.

SUMMARY: Pursuant to section 641 of the Tariff Act of 1930, as amended, (19 USC 1641) and the U.S. Customs and Border Protection regulations (19 CFR 111.51), the following Customs broker licenses and all associated permits are cancelled without prejudice.

Name | License No. | Issuing port
Neutral Customs Brokers, Inc | 13905 | Los Angeles.
R.J. McCracken & Son, Inc | 07020 | Detroit.
HLM Cargo Clearance Brokers, Inc | 12744 | Miami.
Cortez Customhouse Brokerage Co | 08070 | Detroit.
Inter-Cargo CHB, Inc | 20650 | Miami.
AM Worldwide, Inc | 21543 | Houston.
Seajet Express, Inc | 14827 | Boston.
John C. Herrera, Inc | 04120 | Chicago.
International Trade & Commerce, Inc | 12736 | Laredo.

Dated: January 26, 2012.
Richard F. DiNucci,
Acting Assistant Commissioner, Office of International Trade.

[FR Doc. 2012-2658 Filed 2-3-12; 8:45 am]

BILLING CODE 9111-14-P